DEPARTMENT OF HEALTH AND HUMAN SERVICES

Centers for Medicare & Medicaid Services

[Document Identifier: CMS-R-211, CMS-10258, CMS-209, CMS-10259, CMS-R-266, and CMS-R-306]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Model Application Template for State Child Health Plan Under Title XXI of the Social Security Act, State Children's Health Insurance Program, Instructions for Model Application Template; Use: States are required to submit Title XXI plans and amendments for approval by the Secretary pursuant to section 2102 of the Social Security Act in order to receive funds for initiating and expanding health insurance coverage for uninsured children. The model application template is used to assist States in submitting a State Child Health Plan and amendments to that plan. Form Number: CMS-R-211 (OMB# 0938-0707); Frequency: Yearly and occasionally; Affected Public: State, Local or Tribal Governments; Number of Respondents: 56; Total Annual Responses: 40; Total Annual Hours: 3,200.

2. Type of Information Collection Request: New collection; Title of Information Collection: Survey of State Medicaid Agencies: Innovative Approaches to Collecting Citizenship Documentation; Use: The purpose of the survey is to collect information from State Medicaid agencies on innovative approaches used to collect citizenship documentation from Medicaid applicants and recipients. Prior to the Deficit Reduction Act of 2005 (DRA), Medicaid applicants could self-attest to citizenship. As of July 1, 2006, applicants and recipients are required to provide original documentation of citizenship. For some states, this new requirement is challenging because there has been a general movement towards virtual applications by phone, mail, or online submission. CMS is using this survey to identify innovative ways that states have taken advantage of existing information within the state system such as matching data, forming unique partnerships, or holding training sessions to facilitate effective and efficient collection of citizenship documentation. CMS will use the information collected with the survey to compile a snapshot of the innovative and unique approaches states are employing to meet the citizenship documentation requirements of the DRA. The results will be incorporated into a final comprehensive report that will be used as an outreach tool that will then be distributed to states. Form Number: CMS-10258 (OMB# 0938-NEW); Frequency: Once; Affected Public: State, Local or Tribal Governments; Number of Respondents: 100; Total Annual Responses: 100; Total Annual Hours: 25.

3. Type of Information Collection Request: Extension of a currently approved collection; Title of Information Collection: Laboratory Personnel Report (CLIA) and Supporting Regulations in 42 CFR 493.1—493.2001; Use: This form is used by the State agency to determine a laboratory's compliance with personnel qualifications under CLIA. This information is needed for a laboratory's CLIA certification and recertification. Form Number: CMS-209 (OMB# 0938-0151); Frequency: Biennially; Affected Public: Private Sector: Business or other for-profits, not-for-profit institutions; State, Local or Tribal Governments; and Federal Government. Number of Respondents: 21,000; Total Annual Responses: 10,500; Total Annual Hours: 5,248.

4. Type of Information Collection Request: New collection; Title of Information Collection: State Plan Amendment template for 1915(i) State Plan Home and Community-Based Services (HCBS) Benefit; Use: Section 6086 of the Deficit Reduction Act (DRA), expanded access to HCBS for the elderly and disabled and added a new section 1915(i) to the Social Security Act. Under 1915(i), States can amend their State plans to add these services. The template includes the information needed by CMS to determine whether the State's services will meet the requirements under 1915(i). Form Number: CMS-10259 (OMB# 0938-NEW); Frequency: Once; Affected Public: State, Local or Tribal Governments; Number of Respondents: 56; Total Annual Responses: 3; Total Annual Hours: 240.

5. Type of Information Collection Request: Extension of a currently approved collection; Title of Information Collection: Medicaid Disproportionate Share Hospital Annual Reporting; Use: Section 1923(j)(i) of the Social Security Act requires States to submit an annual report that identifies each disproportionate share hospital (DSH) that received a DSH payment under the State's Medicaid program in the preceding fiscal year and the amount of DSH payments paid to that hospital in the same year and such other information as the Secretary determines necessary to ensure the appropriateness of DSH payments. The information supplied will satisfy the requirements under section 1923(a)(2)(D) of the Act as well. Form Number: CMS-R-266 (OMB# 0938-0746); Frequency: Yearly; Affected Public: State, Local or Tribal Governments; Number of Respondents: 52; Total Annual Responses: 52; Total Annual Hours: 1976.

6. Type of Information Collection Request: Extension of a currently approved collection; Title of Information Collection: Use of Restraint and Seclusion in Psychiatric Residential Treatment Facilities (PRTFs) for Individuals Under Age 21; Use: PRTFs are required to report deaths, serious injuries and attempted suicides to the State Medicaid Agency and the Protection and Advocacy Organization. They are also required to provide residents the restraint and seclusion policy in writing, and to document in the residents' records all activities involving the use of restraint and seclusion. Form Number: CMS-R-306 (OMB# 0938-0833); Frequency: Annually; Affected Public: Private Sector: Business or other for-profits; Number of Respondents: 500; Total Annual Responses: 329,500; Total Annual Hours: 501,750.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on June 23, 2008: OMB Human Resources and Housing Branch, Attention: Carolyn Raffaelli, New Executive Office Building, Room 10235, Washington, DC 20503, Fax Number: (202) 395-6974.

Dated: May 14, 2008.
Michelle Shortt,
Director, Regulations Development Group, Office of Strategic Operations and Regulatory Affairs.

[FR Doc. E8-11397 Filed 5-22-08; 8:45 am]

BILLING CODE 4120-01-P